ENVIRONMENTAL PROTECTION AGENCY

[FRL-7406-9]

National Management Measures to Control Nonpoint Source Pollution from Urban Areas—Extension of Comment Period

AGENCY: Environmental Protection Agency (EPA).

ACTION: Notice; extension of comment period.

SUMMARY: On September 9, 2002 (67 FR 57228), EPA noticed the availability of draft National Management Measures to Control Nonpoint Source Pollution From Urban Areas and requested comments on the draft by December 9, 2002. The purpose of this notice is to extend this comment period to January 15, 2003.

DATES: Written comments on the draft guidance should be submitted to the person listed below by January 15, 2003.

ADDRESSES: Comments should be sent to Rod Frederick, Assessment and Watershed Protection Division (4503-T), U.S. Environmental Protection Agency, 1200 Pennsylvania Avenue, NW., Washington, DC 20460. Non-U.S. Postal Service comments should be sent to Rod Frederick, Assessment and Watershed Protection Division, U.S. Environmental Protection Agency, EPA West, Room 7417A, 1301 Constitution Ave., NW., Washington, DC 20004. Faxed comments should be sent to Rod Frederick at (202) 566-1331. Comments can also be emailed to frederick.rod@epa.gov.

The complete text of the draft guidance is available on EPA's Internet site on the Nonpoint Source Control Branch homepage at http://www.epa.gov/owow/nps/urbanmm/index.html. Copies of the complete draft can also be obtained in electronic or hard copy format by request from Rod Frederick at the above address, by e-mail at Frederick.Rod@epa.gov, or by calling (202) 566-1197.

FOR FURTHER INFORMATION CONTACT: Rod Frederick at (202) 566-1197 or e-mail: frederick.rod@epa.gov.

Dated: November 4, 2002.
G. Tracy Mehan, III,
Assistant Administrator for Water.

[FR Doc. 02-28694 Filed 11-8-02; 8:45 am]

BILLING CODE 6560-50-M